DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on January 16, 2025. See Supplementary Information for relevant dates.

FOR FURTHER INFORMATION CONTACT: OFAC: Associate Director for Global Targeting, 202-622-2420; the Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On January 16, 2025, OFAC determined that the property and interests in property subject to U.S. jurisdiction of the following persons are blocked under the relevant sanctions authority listed below.

Individuals

1. ABDALLA, Ahmed (a.k.a. ABDALLA, Akhmed Abdalla Khalafalla; a.k.a. AHMED, Abdalla Khalafalla Abdalla; a.k.a. KHALAFALLAH, Abdallah Ahmed Abdallah), Pishonevskaya 20-1, Flat 76, Odessa, Odessa 65026, Ukraine; Apt. 5405, Amna Tower, Al Habtoor City, Dubai, United Arab Emirates; DOB 14 Mar 1978; POB Omdurman, Sudan; nationality Ukraine; Gender Male; Passport PU669310 (Ukraine) expires 20 Sep 2032; alt. Passport PU683987 (Ukraine) expires 28 Oct 2032; alt. Passport FM684476 (Ukraine) expires 05 Apr 2028; alt. Passport FB793884 (Ukraine) expires 09 Sep 2025 (individual) [SUDAN-EO14098] (Linked To: DEFENSE INDUSTRIES SYSTEM).

Designated pursuant to section 1(a)(v) of Executive Order 14098 of May 4, 2023, “Imposing Sanctions Certain Persons Destabilizing Sudan and Undermining the Goal of a Democratic Transition,” (E.O. 14098) for being a foreign person who is owned or controlled by, or has acted or purported to act for or on behalf of, directly or indirectly, the Defense Industries System, a person whose property and interests in property are blocked pursuant to E.O. 14098.

2. AL-BURHAN, Abdel Fattah (a.k.a. ALBURHAN, Abdalftah Alburhan A Alrahman; a.k.a. “BURHAN”), Port Sudan, Sudan; DOB 04 Jul 1960; POB Shandi, Sudan; nationality Sudan; Gender Male; Passport P11000434 (Sudan) expires 30 Aug 2033 (individual) [SUDAN-EO14098].

Designated pursuant to section 1(a)(ii)(A) of E.O. 14098 for being a foreign person who is or has been a leader, official, senior executive officer, or member of the board of directors of the Sudanese Armed Forces, an entity that has, or whose members have been responsible for, or complicit in, or have directly or indirectly engaged or attempted to engage in actions or policies that threaten the peace, security, or stability of Sudan, relating to the tenure of such leader, official, senior executive officer, or member of the board of directors.

Entities

1. PORTEX TRADE LIMITED (a.k.a. CLOUD COMPUTING INTERNATIONAL HONG KONG LIMITED; a.k.a. PORTEX TRADE FZE), Room 1502 Easey Coml Bldg, Wan Chai, Hong Kong, China; Organization Established Date 17 May 2011; Company Number 1602116 (Hong Kong); Business Registration Number 58369682 (Hong Kong) [SUDAN-EO14098] (Linked To: ABDALLA, Ahmed).

Designated pursuant to section 1(a)(v) of E.O. 14098 for being a foreign person who is owned or controlled by, or has acted or purported to act for or on behalf of, directly or indirectly, Ahmed Abdalla, a person whose property and interests in property are blocked pursuant to E.O. 14098.

Lisa M. Palluconi,
Acting Director, Office of Foreign Assets Control.

[FR Doc. 2025-01499 Filed 1-21-25; 8:45 am]

BILLING CODE 4810-AL-P